DEPARTMENT OF HEALTH AND HUMAN SERVICES

Administration for Community Living

Request for Information: Elder Justice Coordinating Council Priorities

AGENCY: Administration for Community Living, HHS.

ACTION: Request for information.

SUMMARY: The Administration for Community Living (ACL) seeks information on recommended area(s) and or issue(s) for which elder justice stakeholders believe the Elder Justice Coordinating Council (Council) can be the most beneficial to promoting elder justice and have the greatest positive impact for survivors of elder abuse, neglect, and exploitation and their communities.

DATES: Information must be submitted electronically by 11:59 p.m. (EDT) April 24, 2024.

ADDRESSES: Interested persons are encouraged to submit electronic comments to: Administration on Aging, ejpubliccomments@acl.hhs.gov. Include “EJCC Priorities” in the subject line of the message.

FOR FURTHER INFORMATION CONTACT: Stephanie Whittier-Eliason, (202) 795-7467 Stephanie Whittier-Eliason@acl.hhs.gov. The ejpubliccomments@acl.hhs.gov email is a resource mailbox established to receive public input regarding the Elder Justice Coordinating Council and should not be used to request information beyond the scope of this public input opportunity. Please do not use this mailbox to report suspicions of abuse, neglect, or exploitation. Any suspected abuse, neglect or financial exploitation should be reported to your state's Adult Protective Services.

SUPPLEMENTARY INFORMATION: Passed in 2010, the Elder Justice Act establishes the Elder Justice Coordinating Council (Council) to coordinate activities related to elder abuse, neglect, and exploitation across the Federal Government. The Council is directed by the Office of the Secretary of Health and Human Services, and the Secretary serves as the Chair of the Council. The HHS Secretary has assigned responsibility for implementing the Council to the Administration on Aging (AoA) within ACL. AoA has long been engaged in efforts to protect older individuals from elder abuse including financial exploitation, physical abuse, neglect, psychological abuse, and sexual abuse.

The Council is a permanent group, which meets twice a year, with the goal of effectively coordinating the Federal response to elder abuse. The Elder Justice Act also names the Attorney General of the U.S. as a permanent member of the Council. In addition to the Secretary of Health and Human Services and the Attorney General, the statute provides for inclusion as Council members the heads of each Federal department, agency, or governmental entity identified as administering programs related to abuse, neglect, or financial exploitation. The Coordinating Council receives input and support from an Elder Justice Interagency Working Group, a group of Federal employees in Cabinet-level departments and Federal agencies with expertise in the field of elder abuse, neglect, and financial exploitation.

In 2014, the Council adopted “Eight Recommendations from the Elder Justice Coordinating Council for Increased Federal Involvement in Addressing Elder Abuse, Neglect, and Exploitation.” The eight recommendations represent a focused, yet balanced, approach for establishing greater Federal leadership in the area of elder justice and for improving the Federal response to elder abuse, neglect, and exploitation. These recommendations have served as a guide for Federal agencies in planning their elder justice work in the 10 years since adoption.

Public Input

Through this Request for Information (RFI), ACL is seeking input from individuals and organizations regarding the area(s) and or issue(s) about which elder justice stakeholders believe the Elder Justice Coordinating Council can be the most beneficial to promoting elder justice and have the greatest positive impact for survivors of elder abuse, neglect, and exploitation and their communities. Specifically, we would like to hear from respondents: (1) how the Council can benefit the larger elder justice community; (2) the areas of elder justice in which the Council should focus their attention, and (3) the activities, tools, resources, or components that would best help states and communities create and strengthen their systems of services and supports in order to maximize the independence, well-being, and health of people at risk for elder abuse, neglect, and exploitation, their family members, and their support networks. We also seek feedback on how the Council can advance equity, in alignment with Executive Order 13985 Advancing Racial Equity and Support for Underserved Communities Through the Federal Government. In this regard, please keep in mind the following:

• All submissions will be considered and reviewed by ACL.

• ACL seeks recommendations to address practical matters regarding the Elder Justice Coordinating Council. (We may not include all recommendations.)

• If respondents have multiple recommendations, respondents may make multiple recommendations in the same submission.

Submission Questions

1. State the area(s) and or issue(s) in elder justice that should be considered a priority for the Federal Government to address through the Elder Justice Coordinating Council.

2. Provide detail on the reason the area(s) and or issue(s) should be considered a priority for the Council.

3. State the activities, tools, resources, or components that would effectively help states and communities create and strengthen their systems of services and supports in order to maximize the independence, well-being, and health of people at risk for elder abuse, neglect, and exploitation, their family members, and their support networks.

4. Provide detail on any benefits, including how equity will be advanced, and/or barriers that might result from the Council incorporating the recommendation.

Please Note

This RFI is being issued for information and planning purposes only. It should not be construed as a solicitation or an obligation on the part of the Federal Government or the Administration for Community Living (ACL). ACL does not intend to issue any grant or contract awards based on responses to this invitation, or to otherwise pay for the preparation of any information submitted or for the government's use of such information. ACL will not be able to respond to submissions that are not within the scope of this public comment opportunity. ACL is not authorized to receive personally identifiable information (PII) through this RFI other than the contact information of the person submitting the information. Please do not include any PII in your submission. For example, do not include names, addresses, phone, or Social Security numbers of any individuals. We will redact responses that contain PII.

How the Information Will Be Used

The information gathered through this RFI will be used to inform the Elder Justice Coordinating Council's approach to identifying areas in elder justice that could benefit from increased Federal involvement.

Dated: March 19, 2024.
Alison Barkoff,
Principal Deputy Administrator for the Administration for Community Living, performing the delegable duties of the Administrator and Assistant Secretary for Aging.

[FR Doc. 2024-06209 Filed 3-22-24; 8:45 am]

BILLING CODE 4154-01-P